SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes a revision and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB) Office of Management and Budget, Attn: Desk Officer for SSA, Fax: 202-395-6974, e-mail address: OIRA_Submission@omb.eop.gov.

(SSA) Social Security Administration, DCBFM, Attn: Reports Clearance Officer, 1332 Annex Building, 6401 Security Blvd., Baltimore, MD 21235, Fax: 410-965-6400, e-mail address: OPLM.RCO@ssa.gov.

The information collections below are pending at SSA. SSA will submit them to OMB within 60 days from the date of this notice. To be sure that we consider your comments, we must receive them no later than May 22, 2009. Individuals can obtain copies of the collection instruments by calling the SSA Reports Clearance Officer at 410-965-3758 or by writing to the e-mail address listed above.

1. Surveys in Accordance With E.O. 12862 for the Social Security Administration—0960-0526

Under the auspices of Executive Order 12862, Setting Customer Service Standards, SSA conducts multiple customer satisfaction surveys each year. These voluntary customer satisfaction assessments include paper, Internet, and telephone surveys; mailed questionnaires; focus groups; and customer comment cards. The purpose of these questionnaires is to assess customer satisfaction with the timeliness, appropriateness, access, and overall quality of existing SSA services and proposed modifications/new versions of services. The respondents are recipients of SSA services (including most members of the public), professionals, and parties who work on behalf of SSA beneficiaries.

Type of Request: Revision of an OMB-approved information collection.

Year in approval cycle | Number of respondents (burden for all activities within that year) | Frequency of response | Range of response times (minutes) | Burden (burden for all activities within that year; reported in hours)
Year 1 (June 2009-May 2010) | 1,400,001 | 1 | 5-90 | 123,000
Year 2 (June 2010-May 2011) | 1,400,351 | 1 | 5-90 | 123,058
Year 3 (June 2011-June 2012) | 1,400,001 | 1 | 5-90 | 123,000
Total | 4,200,353 |  |  | 369,058

2. Prohibition of Payment of SSI Benefits to Fugitive Felons and Parole/Probation Violators—20 CFR 416.708(o)-0960-0617

Section 1611(e)(4) of the Social Security Act precludes eligibility for Supplemental Security Income (SSI) payments for certain fugitives and probation/parole violators. Regulations at 20 CFR 416.708(o) require individuals to report to SSA if they are fleeing to avoid prosecution for a crime, fleeing to avoid custody or confinement after conviction of a crime, or violating a condition of probation or parole. SSA will use the information reported to deny eligibility or suspend the recipient's SSI payments. The respondents are SSI applicants/recipients or representative payees of SSI recipients who are reporting the applicant's/recipient's status as a fugitive felon or probation/parole violator.

Type of Request: Extension of an OMB-approved information collection.

Number of Respondents: 1,000.

Frequency of Response: 1.

Average Burden per Response: 1 minute.

Estimated Annual Burden: 17 hours.

3. Medical or Psychological Review of Childhood Disability Evaluation Form (SSA-538)—20 CFR 416.1040, 416.1043, 416.1045, 416.924(g)-0960-0675

SSA's regional review component uses Form SSA-536 to facilitate the medical or psychological consultant's review of the Childhood Disability Evaluation Form. The form records the reviewing consultant's assessment of the adjudicating component's evaluation. The consultant completes an SSA-536 for each Title XVI childhood disability he/she reviews. The respondents are consultants who review the adjudicating component's completion of the Childhood Disability Evaluation Form (SSA-538).

Type of Request: Extension of an OMB-approved information collection.

Number of Respondents: 256.

Frequency of Response: 66.

Average Burden per Response: 12 minutes.

Estimated Annual Burden: 3,379 hours.

4. Request for Workers' Compensation/Public Disability Benefit Information—20 CFR 404.408(e)-0960-0098

SSA uses Form SSA-1709 to verify Worker's Compensation/Public Disability Benefits (WC/PDB). SSA uses the information to compute the correct reduction of disability insurance benefits. The claimant may be able to furnish adequate verification of the WC/PDB benefits by submitting a copy of his or her award notice, benefit check, etc. SSA considers the claimant the primary source of verification. If he or she provides the necessary evidence, we do not use the form. If the claimant cannot provide evidence, the other reliable source of this information is the entity giving the benefits, its agent (such as an insurance carrier), or an administering public agency. The respondents are Federal, State, and local agencies administering WC/PDB, insurance carriers, and public or private self-insured companies.

Type of Request: Extension of an OMB-approved information collection.

Number of Respondents: 120,000.

Frequency of Response: 1.

Average Burden per Response: 15 minutes.

Estimated Annual Burden: 30,000 hours.

5. Request for Internet Services—Authentication; Automated Telephone Speech Technology—Knowledge-Based Authentication-20 CFR 401.45—0960-0596

To verify identity, SSA requests individuals and third parties who seek personal information from SSA records, or register to participate in SSA's online business services, to provide certain identifying information. As an extra measure of protection, SSA asks requestors who use the Internet and telephone services to provide additional identifying information unique to those services so SSA can authenticate their identities before releasing personal information. The respondents are current beneficiaries who are requesting personal information from SSA and/or individuals or third parties who are registering for SSA's online business services.

Type of Request: Extension of an OMB-approved information collection.

Forms | Number of respondents | Frequency of response | Average burden per response (minutes) | Burden hours
Internet Requestors | 3,357,503 | 1 | 1½ | 83,938
Telephone Requestors | 24,171,867 | 1 | 1½ | 604,297
Total | 27,529,370 |  |  | 688,235

Dated: March 18, 2009.
John Biles,
Reports Clearance Officer, Center for Reports Clearance, Social Security Administration.

[FR Doc. E9-6323 Filed 3-20-09; 8:45 am]

BILLING CODE 4191-02-P